OFFICE OF PERSONNEL MANAGEMENT

5 CFR Ch. I

Regulatory Agenda

AGENCY: Office of Personnel Management.

ACTION: Semiannual regulatory agenda.

SUMMARY: The following Office of Personnel Management (OPM) regulations are scheduled for development or review during the 6-month period following publication. This agenda carries out OPM's responsibilities to publish a semiannual agenda under Executive Order 12866, “Regulatory Planning and Review,” and the Regulatory Flexibility Act (5 U.S.C. chapter 6). This publication does not impose a binding obligation on OPM with regard to any specific item on the agenda. Regulatory action in addition to the items listed is not precluded.

FOR FURTHER INFORMATION CONTACT: Steve Hickman, (202) 606-1000.

Stephen Hickman,
Federal Register Liaison.

Office of Personnel Management—Final Rule Stage
Sequence No. | Title | Regulation Identifier No.
219 | Requirements Related to Surprise Billing; Part II | 3206-AO29

OFFICE OF PERSONNEL MANAGEMENT (OPM)

Final Rule Stage

219. Requirements Related to Surprise Billing; Part II [3206-AO29]

Legal Authority: Pub. L. 116-260, Division BB, title I and title II

Abstract: This final rule implements provisions related to the independent dispute resolution processes included in the Public Health Service Act sections 2799A-1(c) and 2799A-2(b), as added by sections 102(d), 103 and 105 of the No Surprises Act.

Timetable:

Action | Date | FR Cite
Interim Final Rule | 10/07/21 | 86 FR 55980
Interim Final Rule Effective | 10/07/21
Interim Final Rule Comment Period End | 12/06/21
Final Action | 06/00/22

Regulatory Flexibility Analysis Required: Yes.

Agency Contact: Padma Babubhai Shah, Senior Policy Analyst, Office of Personnel Management, 1900 E Street NW, Washington, DC 20415, Phone: 202 606-4056, Email: padma.shah@opm.gov.

RIN: 3206-AO29

[FR Doc. 2022-14614 Filed 8-5-22; 8:45 am]

BILLING CODE 3280-F5-P